FEDERAL MARITIME COMMISSION

Ocean Transportation Intermediary License Revocations

The Federal Maritime Commission hereby gives notice that the following Ocean Transportation Intermediary licenses have been revoked pursuant to section 19 of the Shipping Act of 1984 (46 U.S.C. app. 1718) and the regulations of the Commission pertaining to the licensing of Ocean Transportation Intermediaries, 46 CFR part 515, effective on the corresponding date shown below:

License Number: 018982F.

Name: Akamai Freight Services, LLC.

Address: 4734 N. Tenth Place, Phoenix, AZ 85014.

Date Revoked: June 9, 2006.

Reason: Failed to maintain a valid bond.

License Number: 000033F.

Name: Alaska Traffic Consultants Inc.

Address: 2214 4th Avenue, South, Seattle, WA 98134.

Date Revoked: May 23, 2006.

Reason: Surrendered License voluntarily.

License Number: 018576N.

Name: Aline Transit Inc.

Address: P.O. Box 520685, Flushing, NY 11352-0685.

Date Revoked: June 12, 2006.

Reason: Surrendered License voluntarily.

License Number: 019036N.

Name: Apex Maritime Co., (NY) Inc.

Address: 71 S. Central Avenue, Suite 307, Valley Stream, NY 11580.

Date Revoked: May 31, 2006.

Reason: Surrendered License voluntarily.

License Number: 016571N.

Name: Arrow Worldwide Logistics, Inc.

Address: 137 Eucalyptus Drive, El Segundo, CA 90245.

Date Revoked: June 8, 2006.

Reason: Failed to maintain a valid bond.

License Number: 018360N.

Name: Canon Express Inc.

Address: 5250 W. Century Blvd., Suite 508, Los Angeles, CA 90045.

Date Revoked: June 9, 2006.

Reason: Failed to maintain a valid bond.

License Number: 018068N.

Name: Gift and Parcel, Inc. dba Grupo Pilipino (GP) Express.

Address: 4700 Mission Street, San Francisco, CA 94112.

Date Revoked: June 2, 2006.

Reason: Failed to maintain a valid bond.

License Number: 018694N.

Name: Global Parcel System LLC.

Address: 8304 Northwest 30th Terrace, Miami, FL 33122.

Date Revoked: June 9, 2006.

Reason: Failed to maintain a valid bond.

License Number: 000214F.

Name: International Sea & Air Shipping Corp.

Address: 5 Lexington Avenue, East Brunswick, NJ 08816.

Date Revoked: June 5, 2006.

Reason: Surrendered License voluntarily.

License Number: 018931N.

Name: JX Global, Inc. dba GFX Logistics Group.

Address: 550 E. Carson Plaza Drive, Suite 208, Carson, CA 90746.

Date Revoked: June 9, 2006.

Reason: Failed to maintain a valid bond.

License Number: 018391N.

Name: LCL Cargo Services Inc.

Address: 8100 NW 29th Street, Miami, FL 33122.

Date Revoked: June 2, 2006.

Reason: Surrendered License voluntarily.

License Number: 006288F.

Name: Merzario USA, Inc.

Address: 17 Battery Place, Suite 730, New York, NY 10004.

Date Revoked: May 26, 2006.

Reason: Failed to maintain a valid bond.

License Number: 015385N.

Name: Plane Cargo Inc. dba Marine Cargo.

Address: 753 Port America Pl., #102, Grapevine, TX 76051.

Date Revoked: June 8, 2006.

Reason: Failed to maintain a valid bond.

License Number: 002364N.

Name: Reiko Gibbs Soejima and James Thomas dba Excel International Forwarders.

Address: 800 E. Wardlow Road, Long Beach, CA 90807.

Date Revoked: May 27, 2006.

Reason: Failed to maintain a valid bond.

License Number: 016012F.

Name: Samari Global Trade, Inc.

Address: 1310 Beach Avenue, Bronx, NY 10472.

Date Revoked: June 4, 2006.

Reason: Failed to maintain a valid bond.

License Number: 018328F.

Name: Sentry Cargo International, Inc.

Address: 8080 NW 71st Street, Miami, FL 33166.

Date Revoked: June 3, 2006.

Reason: Failed to maintain a valid bond.

License Number: 018527N.

Name: Stern, Rogers & Co., Inc.

Address: 10 East 39th Street, Suite #1121, New York, NY 10016.

Date Revoked: May 28, 2006.

Reason: Failed to maintain a valid bond.

License Number: 018883NF.

Name: Wastaki Freight International, Inc.

Address: 9820 Atlantic Drive, Miramar, FL 33025.

Date Revoked: June 8, 2006.

Reason: Failed to maintain valid bonds.

Sandra L. Kusumoto,
Director, Bureau of Certification and Licensing.

[FR Doc. 06-5857 Filed 6-27-06; 8:45 am]

BILLING CODE 6730-01-P